Title 3—

The President

Proclamation 10670 of November 8, 2023

World Freedom Day, 2023

By the President of the United States of America

A Proclamation

On World Freedom Day, we remember that the hammer blow that brought down the Berlin Wall and the might that lifted the Iron Curtain were not sparked by the words of any single leader—it was the people of Europe who spent decades fighting to free themselves and defend democracy. Together, we recommit ourselves to this cause—knowing that the darkness that drives autocracy is no match for the flame of liberty that lights the souls of free people everywhere.

Around the globe, we are seeing a revival of the forces of autocracy, which are once again demonstrating contempt for the rule of law, democratic freedom, and the truth itself. Russia's ongoing aggression against Ukraine is another battle in the long struggle between liberty and authoritarianism, one that compels us to remember that the fight for democracy is perennial and that we must stand up for our values each and every day.

That is exactly what the United States is doing. Together with our partners and allies, the United States will continue to defend the fundamental freedoms and human rights entitled to every person around the world. We will continue working toward a future where women and girls can enjoy equal rights and equal participation in their societies; where Indigenous groups, people with disabilities, and racial, ethnic, and religious minorities do not have their potential stifled by systemic discrimination; and where LGBTQI+ people are not persecuted or targeted with violence because of who they are. We will continue to stand with people around the world striving for a brighter future in the face of autocratic attempts to forge a darker path. As we support democracy abroad, we are mindful that our own democracy is still at risk. My Administration is working tirelessly to show that democracies can deliver on the challenges that matter most in peoples' lives, and I call on the American people to remain vigilant in the defense of our democratic values and institutions.

As we honor the hope felt around the world 34 years ago today when Berliners finally crossed from East to West and ushered in a new future, we remember that when we choose to stand together and recognize the common hopes that bind all humanity, we hold in our hands the power to bend the arc of history. Together, may we continue to live up to the promises we have made to ourselves, to the vulnerable, and to all those who will inherit the world we create. May we work side-by-side to bend the arc of history for the good of the world.

NOW, THEREFORE, I, JOSEPH R. BIDEN JR., President of the United States of America, do hereby proclaim November 9, 2023, as World Freedom Day. I call upon the people of the United States of America to remember the hope symbolized by the fall of the Berlin Wall and reaffirm our dedication to freedom and democracy.

IN WITNESS WHEREOF, I have hereunto set my hand this eighth day of November, in the year of our Lord two thousand twenty-three, and of the Independence of the United States of America the two hundred and forty-eighth.

[FR Doc. 2023-25223

Filed 11-13-23; 8:45 am]

Billing code 3395-F4-P